DEPARTMENT OF THE INTERIOR

Fish and Wildlife Service

[FWS-R4-ES-2008-N0332; 40120-1112-0000-F2]

Receipt of Applications for the Renewal of Incidental Take Permits for Residential Construction in Charlotte and Sarasota County, FL

AGENCY: Fish and Wildlife Service, Interior.

ACTION: Notice of receipt of permit renewal applications; request for comments.

SUMMARY: The U.S Fish and Wildlife Service (Service) issued incidental take permits (permits), pursuant to section 10(a)(1)(B) of the Endangered Species Act of 1973, as amended, for incidental take of the threatened Florida scrub-jay (Aphelocoma coerulescens) (scrub-jay) in Sarasota County, Florida, to Paul Athanas (TE126176-0) and to David Boxer (TE156306-0) in Charlotte County, Florida (Applicants). The Applicants have requested renewals that will extend permit expiration by 5 years from the date their permits are reissued. The Applicants have agreed to follow all of the existing habitat conservation plan (HCP) conditions. If renewed, no additional take will be authorized.

DATES: We must receive your written comments on the permit renewals on or before March 26, 2009.

ADDRESSES: See the SUPPLEMENTARY INFORMATION section below for information on how to submit your comments on the permit renewals. You may obtain a copy of the permit renewal applications and the HCPs by writing to the South Florida Ecological Services Office, Attn: Permit number TE126176-1/TE156306-1, U.S. Fish and Wildlife Service, 1339 20th Street, Vero Beach, FL 32960-3559. In addition, we will make the permit renewal applications and HCPs available for public inspection by appointment during normal business hours at the above address.

FOR FURTHER INFORMATION CONTACT: Ms. Trish Adams, Fish and Wildlife Biologist, South Florida Ecological Services Office (see ADDRESSES); telephone: (772) 562-3909, ext. 232.

SUPPLEMENTARY INFORMATION: If you wish to comment on the permit renewals, you may submit comments by any one of the following methods. Please reference permit number TE126176-1/TE156306-1 in such comments.

1. Mail or hand-deliver comments to our South Florida Ecological Services Office address (see ADDRESSES).

2. E-mail comments to trish_adams@fws.gov. If you do not receive a confirmation that we have received your e-mail message, contact us directly at the telephone number listed under FOR FURTHER INFORMATION CONTACT.

Before including your address, phone number, e-mail address, or other personal identifying information in your comments, you should be aware that your entire comment—including your personal identifying information—may be made publicly available at any time. While you can ask us in your comment to withhold your personal identifying information from public review, we cannot guarantee that we will be able to do so.

Residential construction for the Paul Athanas HCP will take place within Section 33, Township 39, Range 19, South Venice, Sarasota County, Florida, at Poinciana Road, Lots 1652, 1653, and 1654, of South Venice unit 5, property identification number 0459-05-0033. These lots are within scrub-jay occupied habitat. The lots encompass about 0.275 acres (0.11 ha), and the footprint of the home, infrastructure, and landscaping precludes retention of scrub-jay habitat on these lots. Details of the habitat conservation plan are available (see ADDRESSES).

Residential construction for the David Boxer HCP will take place within Section 24, Township 40, Range 21, Port Charlotte, Charlotte County, Florida, at 3300 Liberty Street, property identification number 402124336005. This lot is within scrub-jay occupied habitat. The lot encompasses about 0.23 acres (0.09 ha), and the footprint of the home, infrastructure, and landscaping precludes retention of scrub-jay habitat on this lot. Details of the habitat conservation plan are available (see ADDRESSES).

The Service has made preliminary determinations that renewal of the permits is neither a major Federal action that will significantly affect the quality of the human environment within the meaning of section 102(2)(C) of the National Environmental Policy Act (NEPA), nor will they individually or cumulatively have more than a negligible effect on the species covered in the HCPs. Therefore, the permit renewals qualify as categorical exclusions under NEPA as provided by the Department of Interior Manual (516 DM 2, Appendix 1 and 516 DM 8.5).

Authority: We provide this notice pursuant to Section 10 of the Endangered Species Act (16 U.S.C. 1531 et seq.) and NEPA regulations (40 CFR 1506.6).

Dated: December 2, 2008.
Paul Souza,
Field Supervisor, South Florida Ecological Services Field Office.

[FR Doc. E9-3863 Filed 2-23-09; 8:45 am]

BILLING CODE 4310-55-P